DEPARTMENT OF COMMERCE

Foreign-Trade Zones Board

[B-37-2012]

Foreign-Trade Zone 126—Reno, NV; Notification of Proposed Production Activity; Brightpoint North America L.P. (Cell Phone Kitting and Distribution); Reno, NV

The Economic Development Authority of Western Nevada, grantee of FTZ 126, submitted a notification of proposed production activity on behalf of Brightpoint North America L.P (Brightpoint), located in Reno, Nevada. The Brightpoint facility is located within Site 23 of FTZ 126. The facility is used for cell phone kitting, warehousing and distribution operations.

Production under FTZ procedures could exempt Brightpoint from customs duty payments on the foreign status components used in export production. On its domestic sales, Brightpoint would be able to choose the duty rates during customs entry procedures that apply to cell phone kits (duty free) for the foreign status inputs noted below. Customs duties also could possibly be deferred or reduced on foreign status production equipment.

Components and materials sourced from abroad include: Power supplies; nicad batteries; lithium batteries; cellular phone sets; video phones; base stations; voice, data and image regeneration machines; microphones; answering machines; video recorders; answering machine and video recorder components; transceivers, monitors and projectors; transceiver, monitor and projector parts and accessories; thermionic, cathode and photocathode tubes; cables; connectors and plugs; decals; plastic holsters; leather carrying cases; leather pouches; plastic carrying cases; leather straps; wrist straps; key pads with connectors; external speaker sets; headsets with microphones; and, hands-free speaker kits (duty rate ranges from free to 20%).

Public comment is invited from interested parties. Submissions shall be addressed to the Board's Executive Secretary at the address below. The closing period for their receipt is June 25, 2012.

A copy of the notification will be available for public inspection at the Office of the Executive Secretary, Foreign-Trade Zones Board, Room 2111, U.S. Department of Commerce, 1401 Constitution Avenue NW., Washington, DC 20230-0002, and in the “Reading Room” section of the Board's Web site, which is accessible via www.trade.gov/ftz.

For further information, contact Christopher Kemp at Christopher.Kemp@trade.gov or (202) 482-0862.

Dated: May 10, 2012.
Andrew McGilvray,
Executive Secretary.

[FR Doc. 2012-11885 Filed 5-15-12; 8:45 am]

BILLING CODE 3510-DS-P